DEPARTMENT OF AGRICULTURE

Food and Nutrition Service

Agency Information Collection Activities: Proposed Collection; Comments Request—Special Supplemental Nutrition Program for Women, Infants, and Children (WIC) Health Outcomes and Participant Experience (HOPE) Study

AGENCY: Food and Nutrition Service (FNS), U.S. Department of Agriculture (USDA).

ACTION: 60-Day notice and request for comments.

SUMMARY: In accordance with the Paperwork Reduction Act of 1995, this notice invites the general public and other public agencies to comment on this proposed information collection for the Special Supplemental Nutrition Program for Women, Infants, and Children (WIC) Health Outcomes and Participant Experience (HOPE) Study. This new information collection will provide the U.S. Department of Agriculture, Food and Nutrition Service (FNS) with current information about the population WIC serves, how well WIC services align with participants' needs, and how WIC influences participants' health outcomes. This information will help policymakers and program administrators address service gaps and reduce potential disparities in health outcomes.

DATES: Written comments must be received on or before November 18, 2024.

ADDRESSES: Comments may be sent to the WIC HOPE Study Team, Office of Policy Support, Food and Nutrition Service, USDA, 1320 Braddock Place, Alexandria, VA 22314. Comments may also be submitted via email to sm.fn.wic.hope@usda.gov or by phone at 709-905-2732. Comments will also be accepted through the Federal eRulemaking Portal. Go to https://www.regulations.gov and follow the online instructions for submitting comments electronically.

All responses to this notice will be summarized and included in the request for Office of Management and Budget approval. All comments will be a matter of public record.

FOR FURTHER INFORMATION CONTACT: Requests for additional information on or copies of this information collection should be directed to the WIC HOPE Study Team at sm.fn.wic.hope@usda.gov or the current Contracting Officer Representative for the study, Amanda Reat at Amanda.Reat@usda.gov, 709-905-2732.

SUPPLEMENTARY INFORMATION: Comments are invited on: (a) whether the proposed collection of information is necessary for the proper performance of the functions of the agency, including whether the information shall have practical utility; (b) the accuracy of the agency's estimate of the burden on the proposed collection of information, including the validity of the methodology and assumptions that were used; (c) ways to enhance the quality, utility, and clarity of the information collected; and (d) ways to minimize the burden of the collection of information on those who are to respond, including use of appropriate automated, electronic, mechanical, or other technological collection techniques or other forms of information technology.

Title: WIC Health Outcomes and Participant Experience Study.

Form Number: Not applicable.

OMB Number: 0584-NEW.

Expiration Date: Not yet determined.

Type of Request: New collection.

Abstract:

The Special Supplemental Nutrition Program for Women, Infants, and Children (WIC) provides nutritious supplemental foods, nutrition education and counseling, breastfeeding promotion and support, and referrals to healthcare, social services, and other community providers to pregnant, breastfeeding, and postpartum women, and infants and children up to age 5 who are at nutritional risk and in households with a low income. As a preventive public health nutrition program, WIC aims to improve the feeding practices, diet, and health of participants. The first comprehensive national study assessing WIC participants, the WIC Infant Feeding Practices Study (IFPS), began collecting data in August 1994 and followed infants from birth to age 1.¹ The subsequent and most recent study, the Infant and Toddler Feeding Practices Study-2 (ITFPS-2), began collecting data in 2013 and has followed children from birth through age 9.

¹ Baydar, N., McCann, M., Williams, R., and Vesper, E. (1997). Final report: WIC Infant Feeding Practices Study (for the U.S. Department of Agriculture, Food and Consumer Service). Seattle, WA: Battelle, Centers for Public Health Research and Evaluation. Available at: https://fns-prod.azureedge.us/sites/default/files/WICIFPS.pdf.

WIC has experienced several notable changes since the last major study was launched. WIC currently serves a more diverse population using more modernized service delivery approaches, such as Electronic Benefits Transfer (EBT) cards, online shopping, and virtual visits. WIC has also aligned its nutrition education with the 2020-2025 Dietary Guidelines for Americans (DGA) and invested in new breastfeeding promotion and support resources, like the WIC Breastfeeding Support: Learn Together. Grow Together. campaign. Additional substantial program changes are forthcoming. For example, WIC has proposed changes to the WIC food packages to better serve participants' dietary needs and preferences and ensure equitable access to supplemental foods. WIC is also investing in a national strategy to diversify the WIC workforce so it mirrors the diversity of WIC families, culturally sensitive outreach strategies to increase enrollment and retention rates, and technology enhancements to streamline enrollment and provide a modern WIC experience.²

² U.S. Department of Agriculture, Food and Nutrition Service (USDA, FNS). (2024a, February 13). WIC modernization. Alexandria, VA: Author. Available at: https://www.fns.usda.gov/wic/modernization. Retrieved on: February 23, 2024.

The WIC Health Outcomes and Participant Experience (WIC HOPE) Study will provide the U.S. Department of Agriculture (USDA), Food and Nutrition Service (FNS) with current information about the population WIC serves, how well WIC services align with participants' needs, and how WIC influences participants' health outcomes. This information will help policymakers and program administrators address service gaps and reduce potential disparities in health outcomes.

The five study objectives are: (1) conduct new data collection to update the information in WIC IFPS-1 and WIC ITFPS-2 on the feeding practices and behaviors of WIC infants and children, and compare and contrast findings with previous studies; (2) describe participants' WIC site experiences and engagement with WIC technologies such as text messaging, mobile apps, online appointment scheduling, video calling, online nutrition education, shopping assistance apps, and online shopping tools; (3) assess the extent to which WIC benefits used by participants (including food packages, nutrition education and breastfeeding promotion and support, and referrals) are independently associated with feeding practices, diet, and health over time; (4) describe maternal diet, birth, and health outcomes from the pregnancy and postpartum period throughout the study period; and (5) examine the independent association between duration of WIC participation and diet and health outcomes as well as nutrition security.

WIC HOPE is a prospective cohort study that will follow a nationally representative sample of mother-child dyads who enroll in WIC prenatally or shortly after the child is born through the child's fifth birthday. Pregnant women or caregivers of newborns will be recruited through 80 WIC local agencies sampled from across the country. The study will collect data on participants' experiences with WIC, use of WIC benefits, feeding practices, diet, and health at multiple points.

Because the study child is the focal member of the mother-child dyad, mothers (i.e., caregivers) may change over the course of the study, but the study child will remain the same. Based on data from the ITFPS-2, we anticipate about 96 percent of caregivers will be the child's mother throughout the study. Study participants will be followed for the duration of the study regardless of their continued participation in WIC. Capturing different patterns of WIC participation over time will enable the comparison of study participants with different durations of program exposure. However, because WIC HOPE does not include a randomized comparison group of infants who did not enroll in WIC, the study will examine relationships and associations between program predictors and outcomes rather than establish causality.

Affected Public: Respondent groups identified include: (1) individuals consisting of mother-child dyads (adult WIC participants and their study child); (2) WIC State agencies; (3) WIC local agencies; and (4) WIC sites.

Estimated Number of Respondents: The total estimated number of respondents is 8,825 (8,093 responsive and 1,512 nonresponsive). This includes 81 respondents for the pretest (81 respondents and 0 nonrespondents), composed of 9 WIC participants per data collection instrument. The main study respondents include 8,130 WIC participants, 54 WIC State agency staff, 160 WIC local agency staff, and 400 WIC site staff.

Estimated Number of Responses per Respondent: Based on the estimated 438,325 total annual responses (263,905 responsive and 174,420 nonresponsive) to be made by the 8,825 respondents, the study team expects 50 responses per respondent. See Table 1 for the estimated number of responses per respondent for each type of respondent. The breakout follows:

WIC participants: The estimated number of responses per WIC participant is 51 (32 per respondent and 115 per nonrespondent). For the pretest, 81 WIC participants will be asked to participate in a cognitive interview. For the main study, WIC participants will be asked to respond to one study brochure; complete one screener; one study consent; and one enrollment survey. After enrollment, they will be asked to respond to 14 caregiver surveys and 5 maternal dietary recall interviews, provide study child measurements at 7 points, and provide contact information updates 2 times a year for 3 years. They will also be asked to review upcoming survey notifications, study reminders, child birthday cards, and caregiver birthday greetings.

WIC State agencies: The estimated number of responses per WIC State agency participant is six. The WIC State agencies will be asked to review one email from the Regional Office notifying them of the study selection, attend one informational webinar, review one email from the study to schedule a meeting, participate in one meeting to discuss study implementation, and notify the WIC local agency of their study selection.

WIC local agencies: The estimated number of responses per WIC local agency participant is 12. WIC local agencies will be asked to review one email from the WIC State agency notifying them of the study selection, review the study factsheet, notify their sites of the study selection, attend one training webinar, communicate with Westat regarding WIC participant recruitment planning and implementation, communicate with sites regarding WIC participant recruitment planning and implementation, and assist with locating study participants.

WIC sites: The estimated number of responses per WIC site participant is 57. WIC sites will be asked to review communications from the WIC local agency regarding the study selection, participate in an informational call, attend a training webinar, communicate with Westat and sites regarding WIC participant recruitment planning and implementation, introduce the study to the WIC participant, complete the referral form, and take length/height and weight measurements of study children.

Estimated Total Annual Responses: The estimated total number of annual responses is 438,325. This includes 263,905 for respondents and 174,420 for nonrespondents.

Estimated Time per Response: The estimated average response time is 6.2 hours for all respondents (6.4 hours for responsive participants and 1.4 hours for nonresponsive participants). The estimated time of response varies from 0.50 minutes (0.008 hours) to 1 hour depending on the respondent group and activity, as shown in Table 1. The average estimated time per response across all respondents is 0.12 hours (equal to 54,308 total annual burden hours for both respondents and nonrespondents) divided by 438,325 (total responses for both respondents and nonrespondents), as shown in Table 1.

Estimated Total Annual Burden on Respondents: The total public reporting burden for this collection of information is estimated at 54,308 hours (annually). See Table 1 for estimated total annual burden for each type of respondent.

BILLING CODE 3410-30-P

Tameka Owens,
Acting Administrator and Assistant Administrator, Food and Nutrition Service.

[FR Doc. 2024-21453 Filed 9-18-24; 8:45 am]

BILLING CODE 3410-30-C